DEPARTMENT OF EDUCATION

[Docket No.: ED-2025-SCC-0008]

Agency Information Collection Activities; Submission to the Office of Management and Budget for Review and Approval; Comment Request; 21st Century Community Learning Centers Annual Performance Report

AGENCY: Office of Elementary and Secondary Education (OESE), Department of Education (ED).

ACTION: Notice.

SUMMARY: In accordance with the Paperwork Reduction Act (PRA) of 1995, the Department is proposing a reinstatement with changes of a currently approved information collection request (ICR).

DATES: Interested persons are invited to submit comments on or before August 21, 2025.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Patrick Rooney, (202) 219-1662 or patrick.rooney@ed.gov.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: 21st Century Community Learning Centers Annual Performance Report.

OMB Control Number: 1810-0668.

Type of Review: Reinstatement with changes of a currently approved ICR.

Respondents/Affected Public: State, Local, and Tribal Governments.

Total Estimated Number of Annual Responses: 1,324.

Total Estimated Number of Annual Burden Hours: 38,264.

Abstract: The purpose of the 21st Century Community Learning Centers (21st CCLC) program, as authorized under Title IV, Part B, of the Elementary and Secondary Education Act, as amended by the Every Student Succeeds Act (ESSA) (20 U.S.C. 7171-7176) is to create community learning centers that provide academic enrichment opportunities for children, particularly students who attend high poverty and low-performing schools, to meet State and local student standards in core academic subjects, to offer students a broad array of enrichment activities that can complement their regular academic programs, and to offer literacy and other educational services to the families of participating children. Present in all 50 states, the District of Columbia, Puerto Rico, U.S. Virgin Islands, and the Bureau of Indian Education, academic enrichment and youth development programs are designed to enhance participants' well-being and academic success. The Department of Education (ED) is requesting authorization for an extension to collect data for 21st CCLC programs. The core purpose is to collect information on the performance indicators associated with the 21st CCLC program to report to Congress annually on the implementation and progress of 21st CCLC projects. All elements collected serve to meet the reporting requirements of the GPRAs. These metrics delivered in the form of an Annual Performance Report (APR) are the primary way the federal government determines the success and progress of the 21st CCLC program based on the statutory requirements.

Ross Santy,
Chief Data Officer, Office of Planning, Evaluation and Policy Development.

[FR Doc. 2025-13690 Filed 7-21-25; 8:45 am]

BILLING CODE 4000-01-P